DEPARTMENT OF THE INTERIOR

National Park Service

[NPS-WASO-NAGPRA-10270; 2200-1100-665]

Notice of Inventory Completion: Tennessee Valley Authority and the University of Tennessee McClung Museum, Knoxville, TN

AGENCY: National Park Service, Interior.

ACTION: Notice.

SUMMARY: The Tennessee Valley Authority (TVA) and the University of Tennessee McClung Museum (McClung Museum) have completed an inventory of human remains and associated funerary objects in consultation with the appropriate Indian tribes, and have determined that there is a cultural affiliation between the human remains and associated funerary objects, and a present-day Indian tribe. Representatives of any Indian tribe that believes itself to be culturally affiliated with the human remains and associated funerary objects may contact the TVA and McClung Museum. Repatriation of the human remains and associated funerary objects to the Indian tribe stated below may occur if no additional claimants come forward.

DATES: Representatives of any Indian tribe that believes it has a cultural affiliation with the human remains and associated funerary objects should contact the TVA and McClung Museum at the address below by July 5, 2012.

ADDRESSES: Dr. Thomas O. Maher, TVA, 400 West Summit Hill Drive, WT 11D, Knoxville, TN 37902-1401, telephone (865) 632-7458.

SUPPLEMENTARY INFORMATION: Notice is here given in accordance with the Native American Graves Protection and Repatriation Act (NAGPRA), 25 U.S.C. 3003, of the completion of an inventory of human remains and associated funerary objects under the control of the TVA and in the custody of the McClung Museum, Knoxville, TN. The human remains and associated funerary objects were removed from the Hiwassee Island site in Meigs County, TN.

This notice is published as part of the National Park Service's administrative responsibilities under NAGPRA, 25 U.S.C. 3003(d)(3). The determinations in this notice are the sole responsibility of the museum, institution, or Federal agency that has control of the Native American human remains and associated funerary objects, if applicable. The National Park Service is not responsible for the determinations in this notice.

Consultation

A detailed assessment of the human remains was made by the TVA and McClung Museum professional staff in consultation with representatives of the Absentee Shawnee Tribe of Oklahoma; Alabama-Coushatta Tribe of Texas; Alabama Quassarte Tribal Town, Oklahoma; Cherokee Nation, Oklahoma; Chickasaw Nation, Oklahoma; Eastern Band of Cherokee Indians, North Carolina; Eastern Shawnee Tribe of Oklahoma; Kialegee Tribal Town, Oklahoma; Muscogee (Creek) Nation, Oklahoma; Seminole Tribe of Florida; Shawnee Tribe, Oklahoma; Thlopthlocco Tribal Town, Oklahoma; and United Keetoowah Band of Cherokee Indians in Oklahoma.

History and Description of the Remains

Between April 23, 1937 and January 5, 1939, human remains representing, at minimum, 37 individuals were removed by archeologist from the University of Tennessee's Division of Anthropology on Hiwassee Island, site 40MG31. Hiwassee Island is located seven miles south of the town of Dayton, TN, and is approximately 29 miles upstream of the TVA's Chickamauga Dam. The archeologists were working under a “Permit for Archeological Exploration” between the landowner and the TVA, and the excavations were undertaken in connection with the TVA's construction of Chickamauga Dam and Reservoir. Details regarding the excavations and analysis can be found in Hiwassee Island: An Archaeological Account of Four Tennessee Indian Peoples, by Thomas M.N. Lewis and Madeline Kneberg, University of Tennessee Press, Knoxville, TN.

Since excavation, the human remains and associated funerary objects from site 40MG31 have been curated at the McClung Museum at the University of Tennessee. The human remains were removed from 32 burial units which date to the historic period. Other burial units were excavated at the site but are not included in this notice. No known individuals were identified. The 1 lot of associated funerary objects includes approximately 2,524 beads, 4 bells, approximately 17 clasps, 4 cones, 1 brass spoon, 1 iron snuff box, 3 worked shells, 1 shell gorget, 1 shell hairpin, 1 ceramic pot, iron wire, 1 lead shot, approximately 2 discoidals, copper wire, and 2 copper ornaments.

Determinations Made by the TVA and McClung Museum

Officials of the TVA and McClung Museum have determined that:

• Pursuant to 25 U.S.C. 3001(9), the human remains described in this notice represent the physical remains of 37 individuals of Native American ancestry.

• Pursuant to 25 U.S.C. 3001(3)(A), the approximately 2,564 objects described above are reasonably believed to have been placed with or near individual human remains at the time of death or later as part of the death rite or ceremony.

• Pursuant to 25 U.S.C. 3001(2), there is a relationship of shared group identity that can be reasonably traced between the Native American human remains and associated funerary objects and the Muscogee (Creek) Nation of Oklahoma.

Additional Requestors and Disposition

Representatives of any Indian tribe that believes itself to be culturally affiliated with the human remains should contact Dr. Thomas O. Maher, TVA, 400 West Summit Hill Drive, WT 11D, Knoxville, TN 37902-1401, telephone (865) 632-7458 before July 5, 2012. Repatriation of the human remains and associated funerary objects to the Muscogee (Creek) Nation of Oklahoma may proceed after that date if no additional claimants come forward.

The TVA is responsible for notifying the of the Absentee Shawnee Tribe of Oklahoma; Alabama-Coushatta Tribe of Texas; Alabama Quassarte Tribal Town, Oklahoma; Cherokee Nation, Oklahoma; Chickasaw Nation, Oklahoma; Eastern Band of Cherokee Indians, North Carolina; Eastern Shawnee Tribe of Oklahoma; Kialegee Tribal Town, Oklahoma; Muscogee (Creek) Nation, Oklahoma; Seminole Tribe of Florida; Shawnee Tribe, Oklahoma; Thlopthlocco Tribal Town, Oklahoma; and United Keetoowah Band of Cherokee Indians in Oklahoma that this notice has been published.

Dated: May 30, 2012.
Sherry Hutt,
Manager, National NAGPRA Program.

[FR Doc. 2012-13454 Filed 6-1-12; 8:45 am]

BILLING CODE 4312-50-P